DEPARTMENT OF THE INTERIOR

National Park Service

[NPS-WASO-NAGPRA-NPS0039941; PPWOCRADN0-PCU00RP14.R50000]

Notice of Intended Repatriation: University of California San Diego, San Diego, CA

AGENCY: National Park Service, Interior.

ACTION: Notice.

SUMMARY: In accordance with the Native American Graves Protection and Repatriation Act (NAGPRA), the University of California San Diego intends to repatriate certain cultural items that meet the definition of objects of cultural patrimony and that have a cultural affiliation with the Indian Tribes or Native Hawaiian organizations in this notice.

DATES: Repatriation of the cultural items in this notice may occur on or after May 19, 2025.

ADDRESSES: Eva Trujillo, University of California San Diego, 9500 Gilman Drive, La Jolla, CA 92093, telephone (858) 246-2725, email e7trujillo@ucsd.edu.

SUPPLEMENTARY INFORMATION: This notice is published as part of the National Park Service's administrative responsibilities under NAGPRA. The determinations in this notice are the sole responsibility of the University of California San Diego, and additional information on the determinations in this notice, including the results of consultation, can be found in the summary or related records. The National Park Service is not responsible for the determinations in this notice.

Abstract of Information Available

A total of three cultural items have been requested for repatriation. The three objects of cultural patrimony are three historical ledger books drawings, The two Kiowa-Finley ledgers were collected by Walter Lowrie Finley, 2nd Lieutenant, 9th Cavalry while stationed at Fort Sill during 11/19/1881 to 7/16/1883. The original author was identified as Kiowa but not named.

The Koba-Russell sketchbook was given to Miss Josephine Russell in 1876 by Captain Richard H. Pratt, Commander of Fort Marion in St. Augustine, Florida. Koba, the original Kiowa author, was one of 72 warriors from a number of Plains Indian tribes imprisoned in 1875 at Fort Marion, the old Spanish fortress in St. Augustine, Florida. Miss Russell served as a volunteer school-mistress at Fort Marion, providing instruction for the Plains Indian warriors imprisoned there from 1875 to 1878. The three items were donated to the University of California San Diego at a later time.

Determinations

The University of California San Diego has determined that:

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Kiowa Indian Tribe of Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, the University of California San Diego must determine the most appropriate requestor prior to repatriation. Requests for joint repatriation of the cultural items are considered a single request and not competing requests. The University of California San Diego is responsible for sending a copy of this notice to the Indian Tribes and Native Hawaiian organizations identified in this notice and to any other consulting parties.

Authority: Native American Graves Protection and Repatriation Act, 25 U.S.C. 3004 and the implementing regulations, 43 CFR 10.9.

Dated: April 8, 2025.
Melanie O'Brien,
Manager, National NAGPRA Program.

[FR Doc. 2025-06631 Filed 4-17-25; 8:45 am]

BILLING CODE 4312-52-P